DEPARTMENT OF HOMELAND SECURITY

U.S. Customs and Border Protection

19 CFR Part 101

[Docket No. USCBP-2012-0006; CBP Dec. 13-13]

Extension of Port Limits of Indianapolis, IN

AGENCY: U.S. Customs and Border Protection, DHS.

ACTION: Final rule.

SUMMARY: U.S. Customs and Border Protection (CBP) is extending the geographical limits of the port of entry of Indianapolis, Indiana. This extension will make the boundaries more easily identifiable to the public and will allow for uniform and continuous service to the extended area of Indianapolis, Indiana. The change is part of CBP's continuing program to use its personnel, facilities, and resources more efficiently, and to provide better service to carriers, importers, and the general public.

DATES: Effective Date: October 7, 2013.

FOR FURTHER INFORMATION CONTACT: Roger Kaplan, Office of Field Operations, U.S. Customs and Border Protection, by phone at (202) 325-4543, or by email at Roger.Kaplan@dhs.gov.

SUPPLEMENTARY INFORMATION:

I. Background

In a Notice of Proposed Rulemaking (NPRM) published in the Federal Register (77 FR 24656) on April 25, 2012, CBP proposed to amend the list of CBP ports of entry at 19 CFR 101.3(b)(1) to extend the limits of the Indianapolis, Indiana, port of entry to include all the territory within the boundaries of Marion County, Indiana, as well as portions of the neighboring counties of Boone, Hendricks, and Johnson. This update will allow CBP to better serve the public in the greater Indianapolis area by providing regular service to municipalities within Indianapolis that are not technically within the city limits, and to locations to the immediate west and south of the city. CBP determined that the proposed boundary changes would not result in a change in the service that is provided to the public by the port and would not change the workload at the port or require a change in the staffing at the port. Further background information is provided in the NPRM.

Interested parties were given until June 25, 2012, to comment on the proposed changes. CBP received one comment in response to the NPRM.

II. Comment Analysis

Comment: The commenter notes that Indianapolis, Indiana, is surrounded by four other states and recommends that CBP should utilize other resources, apparently from the surrounding states, to better support Indianapolis.

Response: CBP is seeking to establish definitive geographic port limits to make the boundaries more easily identifiable to the public and to allow for uniform and continuous service to the extended area of Indianapolis, Indiana. This is a no-cost administrative measure and CBP will not need additional resources to implement the proposed boundary changes. As specified in the NPRM, the proposed changes will not result in changes to the workload or staffing levels at the port.

III. Conclusion

For the reasons discussed in the NPRM, CBP is extending the geographical limits of the port of entry of Indianapolis, Indiana, to include all the territory within the boundaries of Marion County, Indiana, as well as portions of the neighboring counties of Boone, Hendricks, and Johnson. The port of entry description of Indianapolis, Indiana, will be revised as proposed in the NPRM and set forth in the map included in the docket as “Attachment: Port of Entry of Indianapolis—Proposed Limits.” The revised port of entry description is also included in Section IV of this document. The description of the port limits of Indianapolis, Indiana in 19 CFR 101.3 will be revised to refer to this document, CBP Dec. 13-13.

IV. Port Description of Indianapolis, Indiana

The new port limits of Indianapolis, Indiana, are as follows:

In the State of Indiana, all of Marion County; that part of Boone County which is west of Interstate Route 65 and east of State Route 39; that part of Hendricks County which is east of State Route 39; and that part of Johnson County which is east of State Route 37, north of State Route 144, and west of Interstate Route 65.

V. Statutory and Regulatory Reviews

A. Executive Orders 12866 and 13563

DHS does not consider this rule to be a “significant regulatory action” under section 3(f) of Executive Order 12866, Regulatory Planning and Review, as supplemented by Executive Order 13563. The change is intended to expand the geographical boundaries of the Indianapolis, Indiana, port of entry and make the boundaries more easily identifiable to the public. There are no new costs to the public associated with this rule, and the rule does not otherwise implicate the factors set forth in section 3(f) of Executive Order 12866. Accordingly, this rule has not been submitted to the Office of Management and Budget for review.

B. Regulatory Flexibility Act

The Regulatory Flexibility Act (5 U.S.C. 601 et seq.) requires federal agencies to examine the impact a rule would have on small entities. A small entity may be a small business (defined as any independently owned and operated business not dominant in its field that qualifies as a small business per the Small Business Act); a small not-for-profit organization; or a small governmental jurisdiction (locality with fewer than 50,000 people).

This rule merely expands the limits of an existing port of entry and does not impose any new costs on the public. Accordingly, we certify that this rule will not have a significant economic impact on a substantial number of small entities.

VI. Signing Authority

The signing authority for this document falls under 19 CFR 0.2(a) because the extension of port limits is not within the bounds of those regulations for which the Secretary of the Treasury has retained sole authority. Accordingly, this final rule is signed by the Secretary of Homeland Security.

List of Subjects in 19 CFR Part 101

Customs duties and inspection, Customs ports of entry, Exports, Imports, Organization and functions (Government agencies).

Amendment to the Regulations

For the reasons set forth in the NPRM and the preamble, part 101 of title 19 of the Code of Federal Regulations is amended as set forth below.

PART 101—GENERAL PROVISIONS

1. The general authority citation for part 101 is revised and the specific authority citation for section 101.3 continues to read as follows:

Authority: 5 U.S.C. 301; 6 U.S.C. 203; 19 U.S.C. 2 & note, 66, 1202 (General Note 3(i), Harmonized Tariff Schedule of the United States), 1623, 1624, 1646a.

Sections 101.3 and 101.4 also issued under 19 U.S.C. 1 and 58b;

* * * * *

§ 101.3 [Amended]

2. In § 101.3(b)(1) in the list of ports of entry under the State of Indiana, add “CBP Dec. 13-13” in the “Limits of port” column adjacent to the listing of Indianapolis.

Dated: September 3, 2013.
Janet Napolitano,
Secretary of Homeland Security.

[FR Doc. 2013-21772 Filed 9-5-13; 8:45 am]

BILLING CODE 9111-14-P